FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjamin W. McDonough, Deputy Secretary of the Board, 20th Street and Constitution Avenue NW, Washington DC 20551-0001, not later than March 16, 2026.

A. Federal Reserve Bank of Philadelphia (William Spaniel, Senior Vice President) 100 North 6th Street, Philadelphia, Pennsylvania 19105-1521. Comments can also be sent electronically to Comments.applications@phil.frb.org:

1. Patriot Financial Partners IV, L.P., Patriot Financial Partners Parallel IV, L.P., Patriot Financial Partners GP IV, L.P., Patriot Financial Partners GP IV, LLC, Patriot Financial Partners V, L.P., Patriot Financial Partners GP V, L.P., Patriot Financial Partners GP V, LLC, Patriot Financial Partners VC Parallel V, L.P., Patriot Financial Partners Parallel GP V, LLC, Patriot Financial Advisors, L.P., Patriot Financial Advisors, LLC, W. Kirk Wycoff, and James Deutsch, all of Radnor, Pennsylvania; as a group acting in concert, to acquire voting shares of Parkway Bancorp, Inc., and thereby indirectly acquire voting shares of Parkway Bank and Trust Company, both of Harwood Heights, Illinois.

Board of Governors of the Federal Reserve System.
Michele Taylor Fennell,
Associate Secretary of the Board.

[FR Doc. 2026-03984 Filed 2-26-26; 8:45 am]

BILLING CODE P